DEPARTMENT OF JUSTICE

Drug Enforcement Administration

[Docket No. DEA-718]

Bulk Manufacturer of Controlled Substances Application: Synthcon, LLC

AGENCY: Drug Enforcement Administration, Justice.

ACTION: Notice of application.

SUMMARY: Synthcon, LLC has applied to be registered as a bulk manufacturer of basic class(es) of controlled substance(s). Refer to Supplemental Information listed below for further drug information.

DATES: Registered bulk manufacturers of the affected basic class(es), and applicants therefore, may file written comments on or objections to the issuance of the proposed registration on or before December 14, 2020. Such persons may also file a written request for a hearing on the application on or before December 14, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on June 18, 2020, Synthcon, LLC, 770 Wooten Road, Suite 101, Colorado Springs, Colorado 80915-3538, applied to be registered as a bulk manufacturer of the following basic class(es) of controlled substance(s):

Controlled substance | Drug code | Schedule
Isotonitrazene | 9614 | I
Etonitazene | 9624 | I
Butyryl Fentanyl | 9822 | I
4-Fluoroisobutyryl fentanyl (N-(4-fluorophenyl)-N-(1-phenethylpiperidin-4-yl)isobutyramide) | 9824 | I
Isobutyryl fentanyl | 9827 | I
Norfentanyl (N-phenyl-N-(piperidin-4-yl) propionamide) | 8366 | II

The company plans to manufacture the above-listed controlled substances as analytical reference materials for distribution to its customers. No other activities for these drug codes are authorized for this registration.

William T. McDermott,
Assistant Administrator.

[FR Doc. 2020-22690 Filed 10-13-20; 8:45 am]

BILLING CODE P